DEPARTMENT OF ENERGY

Federal Energy Regulatory Commission

[Docket No. ZZ07-4-000]

RTO/ISO MMU State of the Markets Reports; Notice of Electronic Filing Guidelines for RTO/ISO Market Monitoring Unit State of the Markets Reports

April 10, 2007.

Take notice that the Commission is issuing guidelines for the submission of the state of the markets reports that may be filed electronically with the Commission by RTO/ISO Market Monitoring Units according to the provisions of their tariff. The Commission has created a special docket number, ZZ07-4-000, under which all of the reports for Fiscal Year 2007, ending September 30, 2007, should be filed.

The Commission's electronic filing system can be accessed on its Web site at: http://www.ferc.gov/docs-filing/docs-filing.asp. An eRegistration account is required for all persons logging in to the system and for persons who will be listed as a primary contact or person responsible for the filing. At the present time, only public information can be submitted via the eFiling system. The Commission prefers filings in text-searchable formats.

The electronic filing guidelines attached to this notice will also be available on the Commission's Web site at http://www.ferc.gov/help/how-to.asp and updated as necessary.

Kimberly D. Bose,
Secretary.

Electronic Filing Guidelines for RTO/ISO Market Monitoring Unit State of the Markets Reports

The Commission's electronic filing system can be accessed on its Web site at: http://www.ferc.gov/docs-filing/docs-filing.asp. A FERC Online eRegistration account is required for all persons logging in to the eFiling system and for persons who will be listed as a primary contact or person responsible for the filing. At the present time, only public information can be submitted via the eFiling system.

The Commission prefers filings in text-searchable formats. Our standard word processing application is MS Word, but the eFiling system can also accept documents in WordPerfect and PDF formats.

1. The header of the document should contain ZZ07-4-000 and the title RTO/ISO Market Monitoring Report.

2. Select the filing type “Production of Document”.

3. On the Select Docket screen, enter ZZ07-4 in the docket number search block and select ZZ07-4-000 from the search results.

4. Before you browse, select, and attach the file(s) make sure that the file name is less than 25 characters and contains no spaces or special characters. There is a maximum number of 10 files per session and no file should be larger than 10 Mb.

5. On the Submission Description Screen, edit the default description be replacing “Production of Document: with “RTO ISO Market Monitoring Report” or other suitable description.

6. For any amendment or correction to a prior submission add “Correction to”, “Supplement to”, or other appropriate indicator to the edited description of the filing.

7. Upon receipt, the eFiling system will send a Confirmation of Receipt email to the e-mail address for the log in account.

RTO/ISO Market Monitoring Report submissions will be stored in eLibrary in the “Electric” library with Class = Other Submittal, Type = Other External Submittal, and the docket number ZZ07-4-000.

[FR Doc. E7-7172 Filed 4-13-07; 8:45 am]

BILLING CODE 6717-01-P